DEPARTMENT OF LABOR

Employment and Training Administration

[TA-W-63,632]

Luxmovera, dba Uplinkearth, Somerset, NJ; Notice of Termination of Investigation

Pursuant to Section 221 of the Trade Act of 1974, as amended, an investigation was initiated on July 1, 2008, in response to a worker petition filed on behalf of workers at Luxmovera, dba Uplinkearth, Somerset, New Jersey.

The petitioners have requested that the petition be withdrawn. Consequently, the investigation has been terminated.

Signed at Washington, DC this 1st day of August 2008.
Elliott S. Kushner,
Certifying Officer, Division of Trade Adjustment Assistance.

[FR Doc. E8-18162 Filed 8-6-08; 8:45 am]

BILLING CODE 4510-FN-P